DEPARTMENT OF COMMERCE

Submission for OMB Review; Comment Request

The Department of Commerce (DoC) has submitted to the Office of Management and Budget (OMB) for clearance the following information collection under provisions of the Paperwork Reduction Act (44 U.S.C. Chapter 5).

Title: Data Collection for Compliance with Government Performance and Results Act of 1993.

Agency: Economic Development Administration (EDA).

Agency Form Numbers: ED-915, Public Works, Economic Adjustment Infrastructure, and Revolving Loan Fund Reporting Form; ED-916, Economic Development District and Indian Tribe Reporting Form; ED-917, University Center Reporting Form; and ED-918, Trade Adjustment Assistance Reporting Form.

OMB Approval Number: 0610.

Type of Request: New.

Burden: 21,009 burden hours.

Average Hours Per Response: (1) 10 burden hours for the Public Works and Economic Adjustment Infrastructure and Revolving Loan Funds Reporting Form; (2) 10 hours for the Economic Development District and Indian Tribe Reporting Form; (3) 7 hours for the University Center Form; and (4) 6 hours for the Trade Adjustment Assistance Form.

Number of Respondents: Approximately 2,469 respondents.

Needs and Uses: The Economic Development Administration (EDA) helps our partners across the nation (states, regions, and communities) create wealth and minimize poverty by promoting a favorable business environment to attract private capital investment and jobs through world-class capacity building, planning, infrastructure, research grants, and strategic initiatives.

EDA must collect data and report on the results of the following principal programs. The Public Works program promotes long-range economic development in distressed areas by providing investments for vital public infrastructure and development facilities. The Economic Adjustment programs offer flexible investments for communities facing sudden or severe economic distress including revolving loan funds. EDA's Planning program supports local planning and long-term partnerships with State, regional organizations, Economic Development Districts and Indian Tribes that assist distressed communities with strategic planning and investment activities. The University Center program is a partnership that draws on the expertise of colleges and universities to strengthen the hand of distressed communities as they strive to become economically self-sufficient. The Trade Adjustment Assistance (TAA) program, authorized under the Trade Act of 1974, assists U.S. firms and industries injured as the result of trade agreements by offering low-cost, effective professional assistance to certified firms in developing and implementing recovery strategies.

The Government Performance and Results Act of 1993 requires Federal agencies to develop performance measures, and report to Congress and their stakeholders the results of the agency's performance. To comply with that law, EDA must collect specific data from grant recipients to report on its performance in meeting its stated goals and objectives. The congressionally mandated reports are the Annual Performance Plan and Annual Program Performance Report, annual Accountability Report, and annual Budgets. Performance measures are designed to evaluate overall program performance and not the performance of individual grantees. The information collected at project completion and various stages thereafter will be used to enhance the management and performance of EDA programs.

Affected Public: State, local or Tribal Government and not-for profit organizations.

Frequency: Annually.

Respondent's Obligation: Mandatory.

OMB Desk Officer: David Rostker, (202) 395-7340.

Copies of the above information collection proposal can be obtained by calling or writing Madeleine G. Clayton, Departmental Paperwork Clearance Officer, (202) 482-3129, U.S. Department of Commerce, Room 6608, 14th and Constitution Avenue, NW., Washington, DC 20230 (or via the Internet at mclayton@doc.gov).

Written comments and recommendations for the proposed information collection should be sent within 30 days of publication of this notice to David Rostker, OMB Desk Officer, Room 10202, New Executive Office Building, Washington, DC 20503.

Dated: April 25, 2002.
Madeleine Clayton,
Department Paperwork Clearance Officer, Office of the Chief Information Officer.

[FR Doc. 02-10625 Filed 4-29-02; 8:45 am]

BILLING CODE 3510-34-M